ENVIRONMENTAL PROTECTON AGENCY

[EPA-HQ-OW-2009-0761; FRL-9088-1]

Executive Order 13508 Chesapeake Bay Protection and Restoration Section 202 Federal Agency Reports

AGENCY: Environmental Protection Agency (EPA).

ACTION: Notice and Request for Public Comments.

SUMMARY: This notice announces the availability of seven final reports by federal agencies for restoration and protection of the Chesapeake Bay and requests public comment. The reports were prepared pursuant to Executive Order (E.O.) 13508 of May 12, 2009, Chesapeake Bay Protection and Restoration. This E.O. requires that a draft strategy be published for public review and comments together with the final reports prepared by the federal agencies. The draft strategy was made available on November 9, 2008 for comment.

DATES: Comments on the seven Section 202 reports must be submitted on or before January 8, 2010.

ADDRESSES: Submit your comments, identified by Docket ID No. EPA-HQ-OW-2009-0761, by one of the following methods:

• http://www.regulations.gov: After entering the docket for this action, click on one of the seven agency reports, for which you want to make comment. Once you arrive at the page for the specific report on which you wish to comment, click the “Submit a Comment” button at the top right of the web page, then follow the on-line instructions.

• Mail: Water Docket, Environmental Protection Agency, Mailcode: 2822T, 1200 Pennsylvania Ave, NW., Washington, DC 20460.

• Hand Delivery: EPA Docket Center Public Reading Room, EPA Headquarters West, Room 3340, 1301 Constitution Avenue, NW., Washington, DC. Such deliveries are only accepted during the Docket's normal hours of operation (8:30 a.m. to 4:30 p.m.), and special arrangements should be made for deliveries of boxed information by contacting the Docket Center at 202-566-1744.

Instructions: Direct your comments to Docket ID No. EPA-HQ-OW-2009-0761. This Notice is not open for public comment, but, the Section 202 reports are available for comment on http://www.regulations.gov. The Section 203 draft strategy was made available in the Federal Register on November 9, 2009 and is also available in the docket for comment. Additional information about the docket is contained below.

FOR FURTHER INFORMATION CONTACT: Marguerite Duffy, USEPA, Region 3, Chesapeake Bay Program Office, Annapolis City Marina, 410 Severn Avenue, Suite 109 (3CB10), Annapolis, MD 21403; telephone number: (410) 267-5764; fax number (410) 267-5777; email: duffy.marguerite@epa.gov.

SUPPLEMENTARY INFORMATION:

Why Were These Documents Prepared?

Executive Order 13508, Chesapeake Bay Protection and Restoration, dated May 12, 2009 (74 FR 23099, May 15, 2009), requires a Federal Leadership Committee composed of seven federal agencies to prepare and publish a set of reports and a draft strategy for public review and comment within 180 days of the date of the order. The deadline for publication of the draft strategy was November 9, 2009 and accordingly is published in the Federal Register for a 60 day comment period. The federal agency draft reports required by E.O. 13508 Sections 202(a) through (g) were submitted to the Federal Leadership Committee for the Chesapeake Bay on September 9, 2009 and released to the public on September 10, 2009. The September 9, 2009, draft reports were reviewed by the Federal Leadership Committee for the Chesapeake Bay, in consultation with relevant state agencies. The revised Section 202 reports reflect consideration of the comments received during state consultation and preliminary public input. During the next six months, review and incorporation of comments will continue as appropriate.

How Can I Access the Docket and/or Submit Comments?

Docket: EPA has established a public docket for this Notice under Docket ID No. EPA-HQ-OW-2009-0761. The E.O. 13508 Section 202 reports are available in the docket at http://www.regulations.gov, as well as at http://executiveorder.chesapeakebay.net. Assistance and tips for accessing the docket can be found at http://executiveorder.chesapeakebay.net. The seven Section 202 reports are included as separate documents within docket number EPA-HQ-OW-2009-0761. Comments via email are not being accepted. Instead, comments will be accepted through http://www.regulations.gov and by mail. If you are commenting on the Section 202 reports, note that there are seven Section 202 reports within the docket and you must submit comments to the specific Section 202 report, on which you are commenting. If you are mailing comments to the docket on one or more reports, clearly identify the specific 202 report(s) and page number at which each comment is directed. All comments received, including any personal information provided, will be included in the public docket without change and will be made available online at www.regulations.gov, unless the comment includes information claimed to be Confidential Business Information (CBI) or other information, the disclosure of which is restricted by statute.

Do not submit information to http://www.regulations.gov that you consider to be CBI or otherwise protected. It is recommended that you include your name and other contact information in the body of your comment and with any disk or CD-ROM you submit. If your comment cannot be read due to technical difficulties and we are unable to contact you for clarification, we will not consider your comment. Electronic files should avoid the use of special characters, any form of encryption, and be free of any defects or viruses. For additional information about the public docket visit the EPA Docket Center homepage at http://www.epa.gov/epahome/dockets.htm. Publicly available docket materials are available electronically either at http://www.regulations.gov as well as at the EPA Docket Center, EPA/DC, EPA West, Room 3334, 1301 Constitution Ave., NW., Washington, DC. The telephone number for this docket is 202-566-2426. The Public Reading Room is open from 8:30 a.m. to 4:30 p.m., Monday through Friday, excluding legal holidays. The telephone number for the Public Reading Room is (202) 566-1744. Certain material, such as copyrighted materials, will be publicly available only in hard copy at the Docket Center.

Why Is EPA Posting These Reports and Draft Strategy for Public Comment?

Executive Order 13508 requires the Federal Leadership Committee for the Chesapeake Bay to prepare and publish a set of reports and a coordinated strategy for protecting and restoring the Chesapeake Bay. As required by E.O. 13508 Section 202, lead agencies prepared reports focusing on:

(a) Defining the next generation of tools and actions to restore water quality in the Chesapeake Bay and describing the changes to be made to regulations, programs, and policies to implement these actions;

(b) targeting resources to better protect the Chesapeake Bay and its tributary waters;

(c) strengthening storm water management practices at Federal facilities and on Federal lands within the Chesapeake Bay watershed and developing storm water best practices guidance;

(d) assessing the impacts of a changing climate on the Chesapeake Bay and developing a strategy for adapting natural resources programs and public infrastructure to the impacts of a changing climate on water quality and living resources of the Chesapeake Bay watershed;

(e) expanding public access to waters and open spaces of the Chesapeake Bay and its tributaries from Federal lands and conserving landscapes and ecosystems of the Chesapeake Bay watershed;

(f) strengthening scientific support for decision making to restore the Chesapeake Bay and watershed, including expanded environmental research; and

(g) developing focused and coordinated habitat and research activities that protect and restore living resources and water quality of the Chesapeake Bay and its watershed. E.O. 13508 Section 203 requires the Federal Leadership Committee for the Chesapeake Bay to prepare and publish a strategy for coordinated implementation of existing programs and projects to guide efforts to protect and restore the Chesapeake Bay. The strategy should to the extent permitted by law:

(a) Define environmental goals for the Chesapeake Bay and describe milestones for making progress toward attainment of these goals;

(b) Identify key measureable indicators of environmental condition and changes that are critical to effective Federal leadership;

(c) Describe the specific programs and strategies to be implemented, including the programs and strategies described in draft reports developed under Section 202 of the order;

(d) Identify the mechanisms that will assure that governmental and other activities, including data collection and distribution, are coordinated and effective, relying on existing mechanisms where appropriate; and

(e) Describe a process for the implementation of adaptive management principles, including a periodic evaluation of protection and restoration.

Acknowledging the strong public interest in the future of the Chesapeake Bay and the actions being taken to improve conditions in the Bay and its watershed, the Federal Leadership Committee for the Chesapeake Bay looks forward to receiving comments on these documents.

What Are the Next Steps in the Process for Collecting Public Comment?

The agencies will review public comments on the draft strategy and agency reports. The comments will be taken into consideration as the Federal Leadership Committee for the Chesapeake Bay develops the final Section 203 strategy. However, the Committee does not anticipate revising the Section 202 reports based upon public comments received. The Committee plans to use comments received on the Section 202 reports to help inform the development of the Section 203 final strategy. As such, reviewers should focus their comments on the draft 203 strategy. A response to comments document will be released at the same time as the final E.O. 13508 Section 203 strategy with anticipated release by May 12, 2010. The federal agencies plan to hold a series of stakeholder meetings throughout the Chesapeake Bay watershed to discuss the draft strategy. The details of these meetings will be announced at: http://executiveorder.chesapeakebay.net.

Dated: November 25, 2009.
Peter S. Silva,
Assistant Administrator, Office of Water.

[FR Doc. E9-28974 Filed 12-3-09; 8:45 am]

BILLING CODE 6560-50-P